DEPARTMENT OF THE INTERIOR

National Park Service

[NPS-WASO-NAGPRA-NPS0035560; PPWOCRADN0-PCU00RP14.R50000]

Notice of Inventory Completion: Virginia Commonwealth University, Department of Forensic Science and Anthropology Program, Richmond, VA

AGENCY: National Park Service, Interior.

ACTION: Notice.

SUMMARY: In accordance with the Native American Graves Protection and Repatriation Act (NAGPRA), Virginia Commonwealth University, Department of Forensic Science and Anthropology Program, has completed an inventory of human remains, in consultation with the appropriate Indian Tribes, and has determined that there is no cultural affiliation between the human remains and any Indian Tribe. The human remains were removed from the City of Richmond, VA.

DATES: Disposition of the human remains in this notice may occur on or after April 28, 2023.

ADDRESSES: Thomas Briggs, Assistant Vice President for Safety and Risk Management, Virginia Commonwealth University, 700 West Grace Street, Suite 3100, P.O. Box 842501, Richmond, VA 23284-2501, telephone (804) 827-2440, email tbriggs4@vcu.edu.

SUPPLEMENTARY INFORMATION: This notice is published as part of the National Park Service's administrative responsibilities under NAGPRA. The determinations in this notice are the sole responsibility of Virginia Commonwealth University. The National Park Service is not responsible for the determinations in this notice. Additional information on the determinations in this notice, including the results of consultation, can be found in the inventory or related records held by Virginia Commonwealth University.

Description

Human remains representing, at minimum, nine individuals were removed from Richmond, VA. In February of 1975, as part of the installation of Interstate 95 through the City of Richmond, archeologists from Virginia Commonwealth University's Department of Archaeology excavated two burial features (Burial 1 and Burial 2). Following the excavation, these human remains were transported to Virginia Commonwealth University. In January of 2019, a review of the collection inventory identified the excavated human remains and archeological materials. The University's Department of Forensic Science has determined that these nine individuals are Native American ranging in age from 34-38 weeks to adult. Based on pottery sherd analysis, these human remains are dated to the Late Woodland period (circa A.D. 900-1600).

Aboriginal Land

The human remains in this notice were removed from a known geographic location. This location is the aboriginal land of one or more Indian Tribes. The following information was used to identify the aboriginal land: a treaty

Determinations

Pursuant to NAGPRA and its implementing regulations, and after consultation with the appropriate Indian Tribes, Virginia Commonwealth University, Department of Forensic Science and Anthropology Program, has determined that:

• The human remains described in this notice represent the physical remains of nine individuals of Native American ancestry.

• No relationship of shared group identity can be reasonably traced between the human remains and any Indian Tribe.

• The human remains described in this notice were removed from the aboriginal land of the Chickahominy Indian Tribe; Pamunkey Indian Tribe; and the Upper Mattaponi Tribe.

Requests for Disposition

Written requests for disposition of the human remains in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains described in this notice to a requestor may occur on or after April 28, 2023. If competing requests for disposition are received, Virginia Commonwealth University must determine the most appropriate requestor prior to disposition. Requests for joint disposition of the human remains are considered a single request and not competing requests. Virginia Commonwealth University is responsible for sending a copy of this notice to the Indian Tribes identified in this notice.

Authority: Native American Graves Protection and Repatriation Act, 25 U.S.C. 3003, and the implementing regulations, 43 CFR 10.9 and 10.11.

Dated: March 22, 2023.
Melanie O'Brien,
Manager, National NAGPRA Program.

[FR Doc. 2023-06476 Filed 3-28-23; 8:45 am]

BILLING CODE 4312-52-P